MARINE MAMMAL COMMISSION

Sunshine Act Meetings

TIME AND DATE: The Marine Mammal Commission and its Committee of Scientific Advisors on Marine Mammals will hold a public meeting on Tuesday, 14 November 2023 from 8:30 a.m. to 4 p.m. and Wednesday, 15 November 2023 from 8:30 a.m. to 5 p.m. The Commission and the Committee also will meet in executive session on Tuesday, 14 November 2023, from 4:15 to 5 p.m.

PLACE: The Navy Memorial Visitor's Center, 701 Pennsylvania Ave. NW, Washington, DC 20004.

STATUS: The executive session will be closed to the public in accordance with the provisions of the Government in the Sunshine Act (5 U.S.C. 552b) and applicable regulations. The session will be limited to discussions of the internal personnel rules and practices of the Commission. All other portions of the meeting will be open to the public. Public participation will be allowed as time permits and as determined to be desirable by the Chair. Virtual participation will be possible through a Zoom Webinar. The meeting agenda and webinar registration details will be posted on the Commission's website (https://www.mmc.gov/events-meetings-and-workshops/marine-mammal-commission-annual-meetings/2023-annual-meeting/) prior to the meeting.

MATTERS TO BE CONSIDERED: The Commission and Committee will meet in public session to discuss a broad range of marine mammal science and conservation policy issues and celebrate the 50th anniversaries of the Endangered Species Act and Marine Mammal Protection Act. While these laws have achieved the recovery of some marine mammal species, others continue to struggle and face a variety of risk factors, including the impacts of climate change. Through the meeting, we will use case studies of threatened and endangered marine mammals to explore national-level issues related to stock assessment, health surveillance, and other management needs in a changing climate.

CONTACT PERSON FOR MORE INFORMATION: Brady O'Donnell, Communications Officer, Marine Mammal Commission, 4340 East-West Highway, Room 700, Bethesda, MD 20814; (301) 504-0087; email: bodonnell@mmc.gov.

Dated: October 27, 2023.
Peter O. Thomas,
Executive Director.

[FR Doc. 2023-24280 Filed 10-31-23; 11:15 am]

BILLING CODE 6820-31-P